DEPARTMENT OF COMMERCE

International Trade Administration

[A-570-981]

Utility Scale Wind Towers From the People's Republic of China: Notice of Rescission of Antidumping Duty Administrative Review; 2018-2019

AGENCY: Enforcement and Compliance, International Trade Administration, Department of Commerce.

SUMMARY: The Department of Commerce (Commerce) is rescinding its administrative review of utility scale wind towers (wind towers) from the People's Republic of China (China) for the period of review (POR) February 1, 2018, through January 31, 2019, based on the withdrawal of the request for review.

DATES: Applicable September 4, 2019.

FOR FURTHER INFORMATION CONTACT: Maisha Cryor, AD/CVD Operations, Office IV, Enforcement and Compliance, International Trade Administration, U.S. Department of Commerce, 1401 Constitution Avenue NW, Washington, DC 20230; telephone: (202) 482-5831.

SUPPLEMENTARY INFORMATION:

Background

On February 8, 2019, Commerce published in the Federal Register a notice of opportunity to request an administrative review of the antidumping duty order on wind towers from China for the above POR.¹ On February 26, 2019, in accordance with section 751(a) of the Tariff Act of 1930, as amended (the Act), and 19 CFR 351.213(b), Commerce received a timely request from the Wind Tower Trade Coalition (the petitioner) to conduct an administrative review of this antidumping duty order.²

¹ See Antidumping or Countervailing Duty Order, Finding, or Suspended Investigation; Opportunity to Request Administrative Review, 84 FR 2816 (February 8, 2019).

² See Letter from the petitioner, “Utility Scale Wind Towers from the People's Republic of China: Request for Administrative Review,” dated February 26, 2019.

Pursuant to this request, and in accordance with 19 CFR 351.225(c)(1)(i), on May 2, 2019, Commerce published a notice of initiation of an administrative review of the antidumping duty order on wind towers from China.³ On May 16, 2019, the petitioner timely withdrew its request for an administrative review of all 56 companies for which it had requested a review.⁴ No other party requested a review.

³ See Initiation of Antidumping and Countervailing Duty Administrative Reviews, 84 FR 18777 (May 2, 2019) (Initiation Notice).

⁴ See Letter from the petitioner, “Utility Scale Wind Towers from the People's Republic of China: Withdrawal of Request for Administrative Review,” dated May 16, 2019.

Rescission of Review

Pursuant to 19 CFR 351.213(d)(1), Commerce will rescind an administrative review, in whole or in part, if the party that requested a review withdraws the request within 90 days of the publication date of the notice of initiation of the requested review. As noted above, the petitioner withdrew its request for review within 90 days of the publication date of the Initiation Notice. No other parties requested an administrative review of the order. Therefore, in accordance with 19 CFR 351.213(d)(1), we are rescinding this review on wind towers from China covering the period February 1, 2018, through January 31, 2019, in its entirety.

Assessment

Commerce will instruct U.S. Customs and Border Protection (CBP) to assess antidumping duties on all appropriate entries of wind towers from China. Antidumping duties shall be assessed at rates equal to the cash deposit of estimated antidumping duties required at the time of entry, or withdrawal from warehouse, for consumption in accordance with 19 CFR 351.212(c)(1)(i). Commerce intends to issue appropriate assessment instructions to CBP 15 days after the date of publication of this notice of rescission of administrative review in the Federal Register.

Notification to Importers

This notice also serves as a final reminder to importers for whom this review is being rescinded of their responsibility under 19 CFR 351.402(f)(2) to file a certificate regarding the reimbursement of antidumping duties prior to liquidation of the relevant entries during this review period. Failure to comply with this requirement could result in the Secretary's presumption that reimbursement of the antidumping duties occurred and the subsequent assessment of double antidumping duties.

Notification Regarding Administrative Protective Orders

This notice also serves as a reminder to parties subject to administrative protective orders (APO) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

This notice is published in accordance with section 777(i)(1) of the Act, and 19 CFR 351.213(d)(4).

Dated: August 23, 2019.
James Maeder,
Deputy Assistant Secretary for Antidumping and Countervailing Duty Operations.

[FR Doc. 2019-18934 Filed 9-3-19; 8:45 am]

BILLING CODE 3510-DS-P